Title 3—

The President

Proclamation 8985 of May 21, 2013

National Maritime Day, 2013

By the President of the United States of America

A Proclamation

Through every chapter of the American story, ordinary men and women have accomplished extraordinary things as members of the United States Merchant Marine. When the idea of America depended on the success of a revolution, mariners took on the world's most powerful navy and helped secure our future as a sovereign Nation. In the decades since, they have sustained critical supply lines for our troops abroad—at times enduring profound losses to keep our sea lanes open. And through war and peace alike, the Merchant Marine has driven our economic growth by shipping our products all around the world. On National Maritime Day, we honor the generations of mariners who have served and sacrificed to make our country what it is today.

To keep America moving forward in the 21st century, we need to expand trade and commerce that creates good jobs for our people. Businesses in every corner of our country are stepping up to meet that challenge, ramping up manufacturing and selling more goods and services overseas. As they do, our Merchant Marine is making sure our products get wherever they need to go—from ports here at home to new markets halfway across the globe. Their work is essential to growing our economy, and my Administration remains committed to getting our mariners the support they need to carry out their mission.

Whether equipping our service members in the theater of war or guiding our maritime industry in the calm of peace, the United States Merchant Marine has helped keep America strong for more than two centuries. Let us mark this day by reflecting on that legacy of service, honoring the men and women who forged it, and saluting the proud mariners who carry it forward today.

The Congress, by a joint resolution approved May 20, 1933, has designated May 22 of each year as “National Maritime Day,” and has authorized and requested the President to issue annually a proclamation calling for its appropriate observance.

NOW, THEREFORE, I, BARACK OBAMA, President of the United States of America, do hereby proclaim May 22, 2013, as National Maritime Day. I call upon the people of the United States to mark this observance and to display the flag of the United States at their homes and in their communities. I also request that all ships sailing under the American flag dress ship on that day.

IN WITNESS WHEREOF, I have hereunto set my hand this twenty-first day of May, in the year of our Lord two thousand thirteen, and of the Independence of the United States of America the two hundred and thirty-seventh.

[FR Doc. 2013-12649

Filed 5-23-13; 11:15 am]

Billing code 3295-F3